DEPARTMENT OF COMMERCE

International Trade Administration

[A-570-836]

Glycine from the People's Republic of China: Initiation of Antidumping Duty New Shipper Review

AGENCY: Import Administration, International Trade Administration, Department of Commerce.

SUMMARY: The Department of Commerce (the Department) has received a timely request to conduct a new shipper review of the antidumping duty order on glycine from the People's Republic of China (PRC). In accordance with section 751(a)(2)(B) of the Tariff Act of 1930, as amended (the Act), and 19 CFR 351.214(d), we are initiating this new shipper review for Hebei New Donghua Amino Acid Co., Ltd. (New Donghua).

EFFECTIVE DATE: May 6, 2003.

FOR FURTHER INFORMATION CONTACT: Matthew Renkey or Scot Fullerton, Office of AD/CVD Enforcement VII, Import Administration, International Trade Administration, U.S. Department of Commerce, 14th Street and Constitution Avenue, N.W., Washington, D.C. 20230; telephone: (202) 482-2312 or (202) 482-1386.

SUPPLEMENTARY INFORMATION:

Background

On March 26, 2003, the Department received a timely request from New Donghua, in accordance with section 751(a)(2)(B) of the Act and 19 CFR 351.214(c), for a new shipper review of the antidumping duty order on glycine from the PRC, which has a March anniversary date.

As required by 19 CFR 351.214(b)(2)(i), (ii), and (iii)(A), New Donghua has certified that it is both an exporter and producer of glycine and did not export glycine to the United States during the period of investigation (POI). See “Glycine from the People's Republic of China; New Shipper Request for Hebei New Donghua Amino Acid Co., Ltd. (New Donghua),” Exhibit 1, (March 26, 2003). It has also certified that it has never been affiliated with any exporter or producer which exported glycine to the United States during the POI. See Id. at Exhibit 2. New Donghua has further certified that its export activities are not controlled by the central government of the PRC, pursuant to the requirements of 19 CFR 351.214(b)(2)(iii)(B). See Id. at Exhibit 3. Pursuant to the Department's regulations at 19 CFR 351.214(b)(2)(iv)(A), New Donghua submitted documentation establishing the date of its first and only shipment of the subject merchandise to the United States, the date of entry of that first shipment, and the volume of that shipment. See Id. at Exhibit 4. New Donghua's request for a new shipper review is on file in the Central Records Unit, room B-099 of the main Commerce Building.

Initiation of Review

Because New Donghua has provided the required certifications and documentation under 19 CFR 351.214(b) of the regulations, we are initiating a new shipper review of the antidumping duty order on glycine from the PRC in accordance with section 751(a)(2)(B)(ii) of the Act and 19 CFR 351.214(d). Based on our analysis of the information and documentation provided with the new shipper review request, as well as our analysis of proprietary import data from the U.S. Bureau of Customs and Border Protection (BCBP), we intend to carefully examine the bona fides of New Donghua's U.S. sale during the course of this new shipper review. We intend to issue the preliminary results of this review no later than 180 days after the date on which the review is initiated.

In accordance with 19 CFR 351.214(g)(1)(i)(A) of the regulations, the period of review (POR) for a new shipper review filed in the annual anniversary month will be the one-year period immediately preceding the anniversary month. Therefore, the POR for this new shipper review is March 1, 2002 through February 28, 2003.

We will instruct BCBP to allow, at the option of the importer, the posting, until the completion of the review, of a bond or security in lieu of a cash deposit for each entry of the merchandise exported and produced by New Donghua. This action is in accordance with 19 CFR 351.214(e). New Donghua has certified that it both produces and exports the subject merchandise, the sales of which were the basis for this new shipper review request. Therefore, we will apply the bonding option under 19 CFR 351.107(b)(1)(i) only to subject merchandise for which New Donghua is both the producer and exporter.

The interested parties that need access to proprietary information in this new shipper review should submit applications for disclosure under administrative protective order in accordance with 19 CFR 351.305 and 351.306.

This initiation and notice are in accordance with section 751(a)(2)(B) of the Act (19 U.S.C. 1675(a)) and 19 CFR 351.214(d).

Dated: April 30, 2003.
Barbara E. Tillman,
Acting Deputy Assistant Secretary for Import Administration, Group III.

[FR Doc. 03-11172 Filed 5-5-03; 8:45 am]

BILLING CODE 3510-DS-S